NUCLEAR REGULATORY COMMISSION

[NRC-2010-0047]

Office of New Reactors: Interim Staff Guidance on Assessing Ground Water Flow and Transport of Accidental Radionuclide Releases; Solicitation of Public Comment

AGENCY: Nuclear Regulatory Commission (NRC).

ACTION: Solicitation of public comment.

SUMMARY: The NRC is soliciting public comment on its Proposed Interim Staff Guidance (ISG) DC/COL-ISG-014 (Agencywide Documents Access and Management System (ADAMS) Accession No. ML091320560). The purpose of this ISG is to provide Combined License (COL) and Design Certification (DC) applicants additional clarity and guidance for the application of Sections 2.4.12 and 2.4.13 of the Standard Review Plan (SRP), NUREG 0800 “Standard Review Plan for the Review of Safety Analysis Reports for Nuclear Power Plants.” Specifically, this ISG would revise the staff guidance in SRP Sections 2.4.12 and 2.4.13 regarding the assessment of ground water flow and transport of accidental radionuclide releases necessary to demonstrate compliance with the requirements of Title 10 of the Code of Federal Regulations, Part 100 (10 CFR 100) and Appendix B to 10 CFR part 20 on effluent concentration limits. The NRC staff issues DC/COL-ISGs to facilitate timely implementation of current staff guidance and to facilitate activities associated with review of applications for DCs and COLs by the Office of New Reactors. The NRC staff will also incorporate the approved DC/COL-ISG-014 into the next revision of the SRP and related guidance documents.

DATES: Comments must be filed no later than 60 days from the date of publication of this notice in the Federal Register. Comments received after this date will be considered, if it is practical to do so, but the Commission is able to ensure consideration only for comments received on or before this date.

ADDRESSES: Please include Docket ID NRC-2010-0047 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You may submit comments by any one of the following methods:

Federal Rulemaking Web site: Go to http://www.regulations.gov and search for documents filed under Docket ID NRC-2010-0047. Comments may be submitted electronically through this Web site. Address questions about NRC dockets to Carol Gallagher at 301-492-3668; e-mail at Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at 301-492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

Federal Rulemaking Web site: Public comments and supporting materials related to this notice can be found at http://www.regulations.gov by searching on Docket ID: NRC-2010-0047.

FOR FURTHER INFORMATION CONTACT: Mr. Richard P. Raione, Chief, Hydrologic Engineering Branch, Division of Site and Environmental Reviews, Office of the New Reactors, U.S. Nuclear Regulatory Commission, Washington, DC 20555-0001; telephone at 301-415-7190 or e-mail at richard.raione@nrc.gov.

SUPPLEMENTARY INFORMATION: The agency posts its issued staff guidance in the agency external Web page (http://www.nrc.gov/reading-rm/doc-collections/isg/).

The NRC staff is issuing this notice to solicit public comments on proposed DC/COL-ISG-014. After the NRC staff considers any public comments, it will make a determination regarding proposed DC/COL-ISG-014.

Dated at Rockville, Maryland, this 3rd day of February 2010.
For the Nuclear Regulatory Commission.
William F. Burton,
Branch Chief, Rulemaking and Guidance Development Branch, Division of New Reactor Licensing, Office of New Reactors.

[FR Doc. 2010-3679 Filed 2-23-10; 8:45 am]

BILLING CODE 7590-01-P